DEPARTMENT OF ENERGY

Federal Energy Regulatory Commission

[Docket No. CP06-46-000]

Great Lakes Gas Transmission Limited Partnership; Notice of Request Under Blanket Authorization

January 13, 2006.

Take notice that on January 4, 2006, Great Lakes Gas Transmission Limited Partnership (Great Lakes), 5250 Corporate Drive, Troy, Michigan 48098, filed in Docket No. CP06-46-000 a request pursuant to sections 157.205(b) and 157.216(b)(2) of the Commission's Regulations under the Natural Gas Act (18 CFR 157.205 and 157.216) for authorization to abandon certain metering facilities at its St. Clair Delivery Point, located at the end of the Great Lakes' system on the west side of the St. Clair River in lower Michigan, under the authorization issued in Docket No. CP90-2053-000 pursuant to section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Vern Meier, Director of Operations, Great Lakes Gas Transmission Company, 5250 Corporate Drive, Troy, Michigan 48098, at (248) 205-7584 or vmeier@glgt.com.

Great Lakes states that its St. Clair metering facilities have reached the end of their serviceable life. Great Lakes indicates that in lieu of replacement, Great Lakes requests authorization to utilize third party measurement data available from TransCanada PipeLines Ltd., downstream of the St. Clair Delivery Point. Great Lakes proposes to abandon the metering function at its St. Clair Delivery Point by removing the orifice plates and the differential pressure and temperature transmitters from the existing meter runs. Great Lakes maintains that the proposed abandonment would not affect service to any shipper at the St. Clair Point.

Great Lakes contends that all customers receiving deliveries at the St. Clair Delivery Point have provided their written consent to the abandonment except one. Great Lakes avers that the customer not providing written consent has not indicated that it objects to the abandonment. Great Lakes, therefore, seeks a waiver to permit the abandonment notwithstanding the withholding of written consent by the one customer.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Comments, protests and interventions may be filed electronically via the Internet in lieu of paper. See, 18 CFR 385.2001(a)(1)(iii) and the instructions on the Commission's Web site under the “e-filing” link. The Commission strongly encourages electronic filings.

Magalie R. Salas,
Secretary.

[FR Doc. E6-603 Filed 1-19-06; 8:45 am]

BILLING CODE 6717-01-P